DEPARTMENT OF TRANSPORTATION

Federal Aviation Administration

14 CFR Part 39

[Docket No. FAA-2009-0663; Directorate Identifier 2007-SW-25-AD; Amendment 39-16231; AD 2010-06-07]

RIN 2120-AA64

Airworthiness Directives; Eurocopter France Model AS 332 C, L, L1, and L2; AS 350 B3; AS355 F, F1, F2, and N; SA 365N and N1; AS 365 N2 and N3; SA 366G1; EC 130 B4; and EC 155B and B1 Helicopters

AGENCY: Federal Aviation Administration (FAA), Department of Transportation (DOT).

ACTION: Final rule.

SUMMARY: We are adopting a new airworthiness directive (AD) for the specified model helicopters. This AD results from a mandatory continuing airworthiness information (MCAI) AD issued by the European Aviation Safety Agency (EASA), which is the Technical Agent for the Member States of the European Community. The MCAI AD states that the AD is issued following a manufacturing nonconformity found on one batch of the servo-control caps. With a defective servo-control, rotation of the distributor might not be stopped mechanically since only friction of inner seals holds the distributor sleeve in its position. The AD actions are intended to address the unsafe condition created by a manufacturing nonconformity found on one batch of servo-control caps. If not corrected this condition could cause untimely movements of servo-controls, which are used on main and anti-torque rotors, and lead to the loss of control of the helicopter.

DATES: This AD becomes effective on April 21, 2010.

The incorporation by reference of certain publications is approved by the Director of the Federal Register as of April 21, 2010.

ADDRESSES: You may examine the AD docket on the Internet at http://regulations.gov or in person at the Docket Operations office, U.S. Department of Transportation, M-30, West Building Ground Floor, Room W12-140, 1200 New Jersey Avenue, SE., Washington, DC between 9 a.m. and 5 p.m. Monday through Friday, except Federal holidays.

You may get the service information identified in this AD from American Eurocopter Corporation, 2701 Forum Drive, Grand Prairie, TX 75053-4005, telephone (972) 641-3460, fax (972) 641-3527, or at http://www.eurocopter.com.

EXAMINING THE AD DOCKET: The AD docket contains the Notice of proposed rulemaking (NPRM), the economic evaluation, any comments received, and other information. The street address and operating hours for the Docket Operations office (telephone (800) 647-5527) are in the ADDRESSES section of this AD. Comments will be available in the AD docket shortly after they are received.

FOR FURTHER INFORMATION CONTACT: Uday Garadi, Aviation Safety Engineer, Regulations and Policy Group, FAA, Rotorcraft Directorate, Fort Worth, Texas 76137, telephone (817) 222-5123, fax (817) 222-5961.

SUPPLEMENTARY INFORMATION:

Discussion

We issued an NPRM to amend 14 CFR part 39 to include an AD that would apply to the Eurocopter France Model AS 332 C, L, L1, and L2; AS 350 B3; AS355 F, F1, F2, and N; SA 365N and N1; AS 365 N2 and N3; SA 366G1; EC 130 B4; and EC 155B and B1 helicopters on July 14, 2009. That NPRM was published in the Federal Register on August 3, 2009 (74 FR 38381). That NPRM proposed to address the unsafe condition created by a manufacturing nonconformity found on one batch of servo-control caps. If not corrected this condition could cause untimely movements of servo-controls, which are used on main and anti-torque rotors, and lead to the loss of control of the helicopter. You may obtain further information by examining the MCAI AD and any related service information in the AD docket.

Comments

By publishing the NPRM, we gave the public an opportunity to participate in developing this AD. However, we received no comment on the NPRM or on our determination of the cost to the public. Therefore, based on our review and evaluation of the available data, we have determined that air safety and the public interest require adopting the AD as proposed.

Relevant Service Information

Eurocopter has issued Alert Service Bulletin (ASB) No. 67.00.37 for Model AS 332 helicopters, ASB No. 67.00.40 for Model AS 350 helicopters, ASB No. 67.00.28 for Model AS 355 helicopters, ASB No. 67.00.13 for Model AS 365 and SA 365 helicopters, ASB No. 67.08 for Model SA 366 helicopters, ASB No. 67A010 for Model EC 130 helicopters, and ASB No. 67A010 for Model EC 155 helicopters, all Revision 0 and all dated February 19, 2007. Two of the ASBs have identical numbers and dates. There is a separate ASB No. 67A010 with the same date for the Model EC130 helicopter and the Model EC 155 helicopter. The actions described in the MCAI AD are intended to correct the same unsafe condition as that identified in the service information.

Differences Between This AD and the MCAI AD

We have reviewed the MCAI AD and related service information and, in general, agree with their substance. However, our AD differs from the MCAI AD in that it:

• Is not applicable to the Model AS 332 C1 helicopters because they are not type certificated in the United States;

• Does not require returning the servo-controls to the manufacturer;

• Does not address servo-control “spares” (parts not installed on a helicopter);

• Uses the term “inspect” rather than “check”; and

• Includes information explaining that there are 2 ASBs with the same number and date—ASB No. 67A010 for the Model EC130 B4 helicopters and ASB No. 67A010 for the Model EC 155B and B1 helicopters.

Costs of Compliance

We estimate that this AD will affect about 318 helicopters with 33 non-conforming control cap assemblies of U.S. registry. Also, we estimate that it would take about 1 work-hour to inspect each helicopter in the fleet and 4 work-hours per helicopter to remove and replace an unairworthy servo-control. The average labor rate is $85 per work-hour. A replacement cap assembly would cost $15,605. Based on these figures, we estimate the cost of the AD on U.S. operators to be $553,215, or $1,740 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-06-07 Eurocopter France: Amendment 39-16231; Docket No. FAA-2009-0663; Directorate Identifier 2007-SW-25-AD.

Effective Date

(a) This airworthiness directive (AD) becomes effective on April 21, 2010.

Other Affected ADs

(b) None.

Applicability

(c) This AD applies to Eurocopter France (Eurocopter) Model AS 332 C, L, L1, and L2; AS 350 B3; AS355 F, F1, F2, and N; SA 365N and N1; AS 365 N2 and N3; SA 366G1; EC 130 B4; and EC 155B and B1 helicopters, certificated in any category.

Reason

(d) The mandatory continuing airworthiness information (MCAI) AD states that the AD is issued following a manufacturing nonconformity found on one batch of the servo-control cap, part number (P/N) 800137. With a defective servo-control, rotation of the distributor might not be stopped mechanically since only friction of inner seals holds the distributor sleeve in its position. If not corrected this condition could cause untimely movements of servo-controls, which are used on main and anti-torque rotors, and lead to the loss of control of the helicopter.

Actions and Compliance

(e) Within 2 months after the effective date of this AD, unless already done, do the following actions.

(1) For each servo-control with a P/N and a serial number (S/N) listed in paragraph 1.A.1. of the applicable Eurocopter Alert Service Bulletin (ASB) stated in Table 1 of this AD, determine whether there is a letter “R” marked in the inspection box of the servo-control identification plate.

(2) If there is no letter “R” marked in the inspection box of a servo-control identification plate, on the next removal of the servo-control, or not later than 2 years after the effective date of this AD, whichever occurs first, replace the servo-control with an airworthy servo-control that has an “R” marked in the inspection box of the servo-control identification plate or one with a serial number not listed in paragraph 1.A.1 of the ASB applicable to your model helicopter.

Note 1: The letter “R” marked in the inspection box of the servo-control identification plate indicates that the servo-control cap assembly has been brought into conformity with design data and has been installed properly.

(3) There are 2 identically numbered and dated ASBs. There is an ASB No. 67A010, dated February 19, 2007, that applies to the Model EC130B4 helicopters and an ASB No. 67A010, dated February 19, 2007, that applies to the Model EC 155B and B1 helicopters. You must use the ASB that applies to your model helicopter.

Table 1
For helicopter model: | Refer to paragraph 1.A.1 of ASB:
AS 332 C, L, L1, and L2 | No. 67.00.37, dated February 19, 2007.
AS 350 B3 | No. 67.00.40, dated February 19, 2007.
AS 355 F, F1, F2, and N | No. 67.00.28, dated February 19, 2007.
AS 365 N and N1 | No. 67.00.13, dated February 19, 2007.
SA 366 G1 | No. 67.08, dated February 19, 2007.
EC 130 B4 | No. 67A010, dated February 19, 2007.
EC 155B and B1 | No. 67A010, dated February 19, 2007.

Differences Between This AD and the MCAI AD

(f) This AD differs from the MCAI AD in that it:

(1) Is not applicable to the Model AS 332 C1 helicopters because they are not type certificated in the United States;

(2) Does not require returning the servo-controls to the manufacturer;

(3) Does not address servo-control “spares” (parts not installed on a helicopter);

(4) Uses the term “inspect” rather than “check”; and

(5) Includes information explaining that there are 2 ASBs with the same number and date.

Other Information

(g) Alternative Methods of Compliance (AMOCs): The Manager, Safety Management Group, FAA, has the authority to approve AMOCs for this AD, if requested using the procedures found in 14 CFR 39.19. Send information to Attn: Uday Garadi, Aviation Safety Engineer, Regulations and Policy Group, Rotorcraft Directorate, FAA, Fort Worth, Texas 76137, telephone (817) 222-5123, fax (817) 222-5961.

Related Information

(h) MCAI EASA Airworthiness Directive 2007-0099, dated April 11, 2007, contains related information.

Joint Aircraft System/Component (JASC) Code

(i) JASC Code 6700: Rotorcraft Flight Control.

Material Incorporated by Reference

(j) You must use the portions of the service information specified in Table 2 to do the actions required.

(1) The Director of the Federal Register approved the incorporation by reference of the service information specified in Table 2 under 5 U.S.C. 552(a) and 1 CFR part 51.

(2) For service information identified in this AD, contact American Eurocopter Corporation, 2701 Forum Drive, Grand Prairie, TX 75053-4005, telephone (972) 641-3460, fax (972) 641-3527, or at http://www.eurocopter.com.

(3) You may review copies at the FAA, Office of the Regional Counsel, Southwest Region, 2601 Meacham Blvd., Room 663, Fort Worth, Texas; or at the National Archives and Records Administration (NARA). For information on the availability of this material at NARA, call (202) 741-6030, or go to: http://www.archives.gov/federal-register/cfr/ibr-locations.html.

Table 2—Material Incorporated by Reference
Eurocopter Alert Service Bulletin | Date | For helicopter model
No. 67.00.37 | February 19, 2007 | AS 332 C, L, L1, and L2.
No. 67.00.40 | February 19, 2007 | AS 350 B3.
No. 67.00.28 | February 19, 2007 | AS 355 F, F1, F2, and N.
No. 67.00.13 | February 19, 2007 | AS 365 N and N1.
No. 67.08 | February 19, 2007 | SA 366 G1.
No. 67A010 | February 19, 2007 | EC 130 B4.
No. 67A010 | February 19, 2007 | EC 155B and B1.

Issued in Fort Worth, Texas, on February 18, 2010.
Mark R. Schilling,
Acting Manager, Rotorcraft Directorate, Aircraft Certification Service.

[FR Doc. 2010-5288 Filed 3-16-10; 8:45 am]

BILLING CODE 4910-13-P